NUCLEAR REGULATORY COMMISSION

10 CFR Part 73

[NRC-2016-0145]

RIN 3150-AJ79

Access Authorization and Fitness-For-Duty Determinations

AGENCY: Nuclear Regulatory Commission.

ACTION: Public meeting.

SUMMARY: The U.S. Nuclear Regulatory Commission (NRC) plans to hold a public meeting to discuss a rulemaking activity regarding the role of third parties in access authorization and fitness-for-duty determinations. The purpose of the meeting is to provide information on the background and status of this rulemaking activity and to obtain input from interested stakeholders.

DATES: The public meeting will be held on February 13, 2017. See Section II, Public Meeting, of this document for more information on the meeting.

ADDRESSES: Please refer to Docket ID NRC-2016-0145 when contacting the NRC about the availability of information regarding this meeting. You may obtain publicly-available information related to this meeting using any of the following methods:

• Federal Rulemaking Web site: Go to http://www.regulations.gov and search for Docket ID NRC-2016-0145. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Daniel I. Doyle, telephone: 301-415-3748, email: Daniel.Doyle@nrc.gov; or Mark Resner, telephone: 301-287-3680, email: Mark.Resner@nrc.gov. Both are staff members of the U.S. Nuclear Regulatory Commission, Washington, DC 20555-0001.

SUPPLEMENTARY INFORMATION:

I. Background

In a staff requirements memorandum dated June 6, 2016 (SRM-SECY-15-0149, ADAMS Accession No. ML16158A286), the Commission approved proceeding with the rulemaking process to further explore the issues raised in an NRC staff paper regarding the role of third party arbitrators in licensee access authorization and fitness-for-duty determinations. The NRC is in the early stages of developing a draft regulatory basis document that will describe the regulatory issue, options to address the issue, and the recommended option. The NRC will consider the information shared at the meeting in the development of the draft regulatory basis document.

The NRC held a similar public meeting on November 16, 2016, and a summary of that meeting is available in ADAMS under Accession No. ML16336A034. The NRC is holding this meeting in response to a request from stakeholders to allow another opportunity for public input prior to publication of a draft regulatory basis document. The NRC also held a closed meeting on December 12, 2016, with representatives from the International Brotherhood of Electrical Workers, and a summary of that meeting is available in ADAMS under Accession No. ML16355A092.

The NRC changed the title of this rulemaking activity from “Role of Third Parties in Access Authorization and Fitness-for-Duty Determinations” to “Access Authorization and Fitness-for-Duty Determinations.”

II. Public Meeting

The public meeting will be on February 13, 2017, from 1:00 p.m. to 4:00 p.m. (EST) in the Commission Hearing Room, 11555 Rockville Pike, Rockville, Maryland 20852. Interested stakeholders may attend in person or via teleconference and Webinar. The purpose of the meeting is to provide background information on this rulemaking activity and obtain stakeholder input in order to enhance the NRC's understanding of the associated issues. The NRC staff will use this input to inform its determination of what action, if any, the agency should take to address the issue of third party participation in licensee access authorization and fitness-for-duty determinations. The NRC staff will discuss the various opportunities for the public to participate in the rulemaking process. The NRC will not provide formal written responses to the oral comments made at this meeting. In addition, the NRC is not providing an opportunity to submit written public comments in connection with this meeting.

Information for the teleconference and Webinar is available in the meeting notice, which can be accessed through the NRC's public Web site at: http://meetings.nrc.gov/pmns/mtg. Participants must register at the Internet link in the meeting notice to participate in the Webinar.

Additional details regarding the meeting will be posted at least 10 days prior to the public meeting on the NRC's public meeting Web site at: http://meetings.nrc.gov/pmns/mtg.

Dated at Rockville, Maryland, this 31st day of January 2017.
For the Nuclear Regulatory Commission.
Louise Lund,
Director, Division of Policy and Rulemaking, Office of Nuclear Reactor Regulation.

[FR Doc. 2017-02515 Filed 2-6-17; 8:45 am]

BILLING CODE 7590-01-P